INTERNATIONAL TRADE COMMISSION

[Investigation Nos. 701-TA-779 and 731-TA-1765-1766 (Preliminary)]

Chromium Trioxide From India and Turkey; Revised Schedule for the Subject Proceeding

AGENCY: United States International Trade Commission.

ACTION: Notice.

DATES: November 14, 2025.

FOR FURTHER INFORMATION CONTACT: Laurel Schwartz (202-205-2398), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this proceeding may be viewed on the Commission's electronic docket (EDIS) at https://edis.usitc.gov.

SUPPLEMENTARY INFORMATION: Effective September 29, 2025, the Commission established a schedule for the conduct of the subject proceeding (90 FR 47820, October 2, 2025). Due to the lapse in appropriations and ensuing cessation of Commission operations, the Commission is revising its schedule as follows: requests to appear at the conference should be provided by noon on December 2, 2025; parties shall file written testimony and supplementary material in connection with their presentation at the conference no later than 4:00 p.m. on December 3, 2025; the staff conference is on December 4, 2025 beginning at 9:30 a.m.; written briefs containing information and arguments pertinent to the subject matter of the proceeding are due on or before 5:15 p.m. on December 9, 2025. The Commission must reach preliminary determinations by December 30, 2025, and the Commission's views must be transmitted to Commerce within five business days thereafter, or by January 6, 2025.

For further information concerning this proceeding, see the Commission's notice cited above and the Commission's Rules of Practice and Procedure, part 201, subparts A and B (19 CFR part 201), and part 207, subparts A and B (19 CFR part 207).

Authority: This proceeding is being conducted under authority of title VII of the Tariff Act of 1930; this notice is published pursuant to section 207.12 of the Commission's rules.

By order of the Commission.
Issued: November 14, 2025.
Lisa Barton,
Secretary to the Commission.

[FR Doc. 2025-20258 Filed 11-18-25; 8:45 am]

BILLING CODE 7020-02-P